DEPARTMENT OF COMMERCE

National Oceanic and Atmospheric Administration

[RTID 0648-XC349]

Pacific Fishery Management Council; Public Meeting

AGENCY: National Marine Fisheries Service (NMFS), National Oceanic and Atmospheric Administration (NOAA), Commerce.

ACTION: Notice of public meeting.

SUMMARY: The Pacific Fishery Management Council's (Pacific Council) Groundfish Subcommittee of the Scientific and Statistical Committee (SSC) and other scientists will hold an online meeting to review an Oregon Department of Fish and Wildlife (ODFW) acoustic and visual survey for nearshore groundfish. This methodology review will be coupled with a workshop to evaluate Washington Department of Fish and Wildlife (WDFW) hook-and-line surveys for groundfish species. Participants will recommend how data generated from these surveys may inform future groundfish stock assessments.

DATES: The online meeting will be held Tuesday, September 27, 2022 through Friday, September 30, 2022, from 8:30 a.m. to 5 p.m., Pacific daylight time (PDT) or when business has been completed each day.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: John DeVore, Staff Officer, Pacific Council; telephone: (503) 820-2413.

SUPPLEMENTARY INFORMATION: Meeting participants will review the ODFW acoustic-visual and hook-and-line surveys for groundfish species and evaluate data and analyses generated from these surveys to potentially inform future stock assessments. Meeting participants will also review hook-and-line surveys conducted by WDFW and the International Pacific Halibut Commission for groundfish species to evaluate their efficacy for informing future stock assessments.

No management actions will be decided by meeting participants. The meeting participants' role will be the development of recommendations and a report for consideration by the SSC and the Pacific Council at their November 2022 meeting in Garden Grove, CA.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 7, 2022.
Rey Israel Marquez,
Acting Deputy Director, Office of Sustainable Fisheries, National Marine Fisheries Service.

[FR Doc. 2022-19652 Filed 9-9-22; 8:45 am]

BILLING CODE 3510-22-P